DEPARTMENT OF AGRICULTURE

Forest Service

Olympic Provincial Advisory Committee (OPAC); Meeting

AGENCY: Forest Service, USDA.

ACTION: Notice of meeting.

SUMMARY: The Olympic Province Advisory Committee (OPAC) will meet on May 10, 2002. The meeting will be held at the Forest Service/WA Department of Natural Resources's Conference Room at 437 Tillicum Lane in Forks, Washington. The meeting will begin at 9:30 a.m. and end at approximately 3:00 p.m. Agenda topics are: (1) Current status of key Forest issues; (2) Status update on the Resource Advisory Committees for Rural Schools and Community Self-Determination Act of 2000; (3) NW Forest Plan Implementation Monitoring; (4) Road Management; (5) Open forum; and (6) Public comments.

All Olympic Province Advisory Committee Meetings are open to the public. Interested citizens are encourage to attend.

FOR FURTHER INFORMATION CONTACT: Direct questions regarding this meeting to Ken Eldredge, Province Liaison, USDA, Olympic National Forest Headquarters, 1835 Black Lake Blvd., Olympia, WA 98512-5623, (360) 956-2323 or Dale Hom, Forest Supervisor, at (360) 956-2301.

Dated: April 12, 2002.
Dale Hom,
Forest Supervisor, Olympic National Forest.

[FR Doc. 02-9563 Filed 4-18-02; 8:45 am]

BILLING CODE 3410-11-M